DEPARTMENT OF HEALTH AND HUMAN SERVICES

Health Resources and Services Administration

Ryan White HIV/AIDS Program, Part C Early Intervention Services Grant

AGENCY: Health Resources and Services Administration, HHS.

ACTION: Notice of non-competitive, HRSA-initiated supplemental funding award.

SUMMARY: To prevent a lapse in comprehensive HIV primary care services for persons living with HIV, HRSA will provide a one-time non-competitive, HRSA-initiated supplemental award to Cape Cod Hospital. The purpose of the Fiscal Year 2017 RWHAP Part C Early Intervention Services Program Existing Geographic Service Area (EISEGA) is to provide HIV primary care in the outpatient setting to targeted low income, underinsured, and uninsured people living with HIV.

SUPPLEMENTARY INFORMATION:

Intended Recipient of the Award: Cape Cod Hospital.

Amount of Non-Competitive Award: $158,713.

Period of Funding: April 1, 2017, through March 31, 2018.

CFDA Number: 93.918.

Authority: Sections 2651-2667 of the Public Health Service Act, (42 U.S.C. 300ff-51 through 67) and section 2693 of the Public Health Service Act, as amended by the Ryan White HIV/AIDS Treatment Act of 2009 (P.L. 111-87).

Justification: Outer Cape Health Services, Inc. (OCHS) submitted an official request to relinquish its RWHAP Part C EISEGA grant. Cape Cod Hospital is a current RWHAP Part C EISEGA recipient and provides primary medical care; chronic disease management including HIV care and treatment, counseling, and mental health services; lab work; and dental care to vulnerable and underserved populations. Cape Cod Hospital currently serves the service area of Barnstable County, Massachusetts, with the capacity, capability, and interest to serve OCHS's client base. Cape Cod Hospital has satellite offices located in the middle region of Cape Cod with close proximity to OCHS with comparable medical services provided. OCHS has had previous contractual relationships with Cape Cod Hospital that will ensure familiarity and a seamless transition of RWHAP patients originally served by OCHS. Up to $158,713 will be awarded to Cape Cod Hospital for the budget period of April 1, 2017, through March 31, 2018. The award to Cape Cod Hospital will ensure continuity of comprehensive HIV primary care and support services for low income, underinsured, and uninsured people living with HIV in the service area.

FOR FURTHER INFORMATION CONTACT: CAPT Mahyar Mofidi, DMD, Ph.D., Director, Division of Community HIV/AIDS Programs, HIV/AIDS Bureau, Health Resources and Services Administration, 5600 Fishers Lane, 09N09, Rockville, Maryland 20857, phone: (301) 443-2075, email: mmofidi@hrsa.gov.

Dated: July 12, 2017.
George Sigounas,
Administrator.

[FR Doc. 2017-15292 Filed 7-20-17; 8:45 am]

BILLING CODE 4165-15-P